DEPARTMENT OF ENERGY

Closure of Yucca Mountain Freedom of Information Act Reading Room at Las Vegas Information Center and Opening of Office of Civilian Radioactive Waste Management Reading Room at the Pahrump Information Center

AGENCY: U.S. Department of Energy.

ACTION: Notice of action.

SUMMARY: The U.S. Department of Energy (DOE) managed the Las Vegas Information Center located at 4101 B Meadows Lane, Las Vegas, Nevada. This facility housed the Yucca Mountain Project's FOIA Reading Room. On March 29, 2007, the Las Vegas Information Center, including the FOIA reading room was closed. The OCRWM reading room was relocated to the Pahrump Information Center located at 2341 E. Postal Drive, Pahrump, Nevada, in Nye County on June 18, 2007.

DATES: The Pahrump Information Center OCRWM reading room opened on June 18, 2007. The reading room hours of operation are Mondays and Wednesdays, 9 a.m.-3:30 p.m., Pacific Standard Time.

ADDRESSES: The Pahrump Information Center is located at 2341 E. Postal Drive, Pahrump, Nevada 89048.

FOR FURTHER INFORMATION CONTACT: For general information regarding the reading room hours of operation, call 775-751-5817, or leave a message at 1-800-225-6972.

Issued in Washington, DC, on June 21, 2007.
Allen B. Benson,
Director, Office of External Affairs, Office of Civilian Radioactive Waste Management.

[FR Doc. E7-12414 Filed 6-26-07; 8:45 am]

BILLING CODE 6450-01-P